DEPARTMENT OF HEALTH AND HUMAN SERVICES

Administration for Children and Families

Submission for Office of Management and Budget (OMB) Review; National Medical Support Notice Part A (OMB No.: 0970-0222)

AGENCY: Office of Child Support Enforcement, Administration for Children and Families, Department of Health and Human Services.

ACTION: Request for public comments.

SUMMARY: The Office of Child Support Enforcement (OCSE), Administration for Children and Families (ACF), is requesting a three-year extension of the National Medical Support Notice (NMSN) Part A. This request includes minor revisions to the NMSN Part A form, revisions to and separation of the instructions into a stand-alone attachment, a Part A sample, and the addition of the State Medical Support Contacts and Program Requirements matrix.

To allow states to program the changes to the proposed NMSN Part A, OCSE also requests an extension of the current version of the NMSN Part A for an additional year. The current Office of Management and Budget (OMB) approval expires on October 31, 2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to https://www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Federal law requires that all child support orders under Title IV-D of the Social Security Act include medical coverage. The Child Support Performance and Incentive Act of 1998 (CSPIA) requires enforcement of this provision; the NMSN Part A is the means to enforce health care orders.

This information collection expedites requests for medical coverage between state child support enforcement agencies and employers. OCSE maintains Part A of the NMSN, which states initiate and send to a parent's employer to complete. States must supply some sensitive information to the parent's employer in order to enroll the child(ren) in the correct health coverage plan. This information includes names, dates of birth, Social Security numbers, and addresses. The employer retains the income withholding part of the form and withholds from the employee/obligor's income any premium payments that may be required by the employer's health care plan. Then the employer's health care administrator enrolls the child(ren) in the health care plan. The Department of Labor (DOL) maintains Part B of the NMSN. This request includes minor revisions to the NMSN Part A form, revisions to and separation of the instructions into a stand-alone attachment, a Part A sample, and the addition of the State Medical Support Contacts and Program Requirements matrix. OCSE will also request from OMB that the NMSN Part A expiration date match the expiration date of the NMSN Part B, which will be submitted by DOL.

Respondents: States and employers.

Annual Burden Estimates:

Information collection title | Total number of respondents | Annual number of responses per respondent | Average burden hours per response | Annual burden hours
2019 Form—Estimated Burden for Use Through 2023
National Medical Support Notice—Part A—Notice to Withhold for Health Care Coverage—States | 54 | 90,194 | .17 | 827,981
National Medical Support Notice—Part A—Notice to Withhold for Health Care Coverage—Employers | 1,310,727 | 3.72 | .17 | 828,904
Estimated Annual Burden 2022-2023: |  |  |  | 1,656,885
Revised Form—Estimated Burden for Implementation in 2023
National Medical Support Notice—Part A—Notice to Withhold for Health Care Coverage—States | 54 | 90,194 | .17 | 827,981
National Medical Support Notice—Part A—Notice to Withhold for Health Care Coverage—Employers | 1,310,727 | 3.72 | .17 | 828,904
State Medical Support Contacts and Program Requirement Matrix—States | 54 | 1 | 1 | 54
Estimated Annual Burden Beginning 2023: |  |  |  | 1,656,939

Estimated Total Annual Burden Hours: 1,656,885 while states update systems and then 1,656,939 once states use the revised collection.

Authority: 45 U.S.C. 303.32; the Personal Responsibility and Work Opportunity Reconciliation Act of 1996, Pub. L. 104-193; CSPIA, Pub. L. 105-200, Sec. 401(c); Sec. 609(a)(5)(C) of the Employee Retirement Income Security Act of 1974.

Mary B. Jones,
ACF/OPRE Certifying Officer.

[FR Doc. 2022-20367 Filed 9-20-22; 8:45 am]

BILLING CODE 4184-41-P